Proclamation 9564 of January 12, 2017

Boundary Enlargement of the Cascade-Siskiyou National Monument

By the President of the United States of America

A Proclamation

Through Proclamation 7318 of June 9, 2000, President Bill Clinton established the Cascade-Siskiyou National Monument (monument) to protect the ecological wonders and biological diversity at the interface of the Cascade, Klamath, and Siskiyou ecoregions. The area, home to an incredible variety of species and habitats, represents a rich mosaic of forests, grasslands, shrublands, and wet meadows. The many rare and endemic plant and animal species found here are a testament to Cascade-Siskiyou's unique ecosystems and biotic communities.

As President Clinton noted in Proclamation 7318, the ecological integrity of the ecosystems that harbor this diverse array of species is vital to their continued existence. Since 2000, scientific studies of the area have reinforced that the environmental processes supporting the biodiversity of the monument require habitat connectivity corridors for species migration and dispersal. Additionally, they require a range of habitats that can be resistant and resilient to large-scale disturbance such as fire, insects and disease, invasive species, drought, or floods, events likely to be exacerbated by climate change. Expanding the monument to include Horseshoe Ranch, the Jenny Creek watershed, the Grizzly Peak area, Lost Lake, the Rogue Valley foothills, the Southern Cascades area, and the area surrounding Surveyor Mountain will create a Cascade-Siskiyou landscape that provides vital habitat connectivity, watershed protection, and landscape-scale resilience for the area's critically important natural resources. Such an expansion will bolster protection of the resources within the original boundaries of the monument and will also protect the important biological and historic resources within the expansion area.

The ancient Siskiyou and Klamath Mountains meet the volcanic Cascade Mountains near the border of California and Oregon, creating an intersection of three ecoregions in Jackson and Klamath Counties in Oregon and Siskiyou County in California. Towering rock peaks covered in alpine forests rise above mixed woodlands, open glades, dense chaparral, meadows filled with stunning wildflowers, and swiftly-flowing streams.

Native American occupancy of this remarkably diverse landscape dates back thousands of years, and Euro-American settlers also passed through the expansion area. The Applegate Trail, a branch of the California National Historic Trail, passes through both the existing monument and the expansion area following old routes used by trappers and miners, who themselves made use of trails developed by Native Americans. Today, visitors to the Applegate Trail can walk paths worn by wagon trains of settlers seeking a new life in the west. The trail, a less hazardous alternative to the Oregon Trail, began to see regular wagon traffic in 1846 and helped thousands of settlers traverse the area more safely on their way north to the Willamette Valley or south to California in search of gold—one of the largest mass migrations in American history. Soon thereafter, early ranchers, loggers, and homesteaders began to occupy the area, leaving traces of their presence, which provide potential for future research into the era of westward expansion in southwestern Oregon. A historic ranch can be seen in the Horseshoe Ranch Wildlife Area, in the northernmost reaches of California.

The Cascade-Siskiyou landscape is formed by the convergence of the Klamath, the Siskiyou, and the Cascade mountain ranges. The Siskiyou Mountains, which contain Oregon's oldest rocks dating to 425 million years, have an east-west orientation that connects the newer Cascade Mountains with the ancient Klamath Mountains. The tectonic action that formed the Klamath and Siskiyou Mountains occurred over 130 million years ago, while the Cascades were formed by more recent volcanism. The Rogue Valley foothills contain Eocene and Miocene formations of black andesite lava along with younger High Cascade olivine basalt. In the Grizzly Peak area, the 25 million-year geologic history includes basaltic lava flows known as the Roxy Formation, along with the formation of a large strato-volcano, Mount Grizzly. Old Baldy, another extinct volcanic cone, rises above the surrounding forest in the far northeast of the expansion area.

Cascade-Siskiyou's biodiversity, which provides habitat for a dazzling array of species, is internationally recognized and has been studied extensively by ecologists, evolutionary biologists, botanists, entomologists, and wildlife biologists. Ranging from high slopes of Shasta red fir to lower elevations with Douglas fir, ponderosa pine, incense cedar, and oak savannas, the topography and elevation gradient of the area has helped create stunningly diverse ecosystems. From ancient and mixed-aged conifer and hardwood forests to chaparral, oak woodlands, wet meadows, shrublands, fens, and open native perennial grasslands, the landscape harbors extraordinarily varied and diverse plant communities. Among these are threatened and endangered plant species and habitat for numerous other rare and endemic species.

Grizzly Peak and the surrounding Rogue Valley foothills in the northwest part of the expansion area are home to rare populations of plant species such as rock buckwheat, Baker's globemallow, and tall bugbane. More than 275 species of flowering plants, including Siberian spring beauty, bluehead gilia, Detling's silverpuffs, bushy blazingstar, southern Oregon buttercup, Oregon geranium, mountain lady slipper, Egg Lake monkeyflower, green-flowered ginger, and Coronis fritillary can be found here. Ferns such as the fragile fern, lace fern, and western sword fern contribute to the lush green landscape.

Ancient sugar pine and ponderosa pine thrive in the Lost Lake Research Natural Area in the north, along with white fir and Douglas fir, with patches of Oregon white oak and California black oak. Occasional giant chinquapin, Pacific yew, and bigleaf maple contribute to the diversity of tree species here. Shrubs such as western serviceberry, oceanspray, Cascade barberry, and birchleaf mountain mahogany grow throughout the area, along with herbaceous species including pale bellflower, broadleaf starflower, pipsissewa, and Alaska oniongrass. Creamy stonecrop, a flowering succulent, thrives on rocky hillsides. Patches of abundant ferns include coffee cliffbrake and arrowleaf sword fern. Moon Prairie contains a late successional stand of Douglas fir and white fir with Pacific yew, ponderosa pine, and sugar pine.

Old Baldy's high-elevation forests in the northeast include Shasta red fir, mountain hemlock, Pacific silver fir, and western white pine along with Southern Oregon Cascades chaparral. Nearby, Tunnel Creek is a high-altitude lodgepole pine swamp with bog blueberry and numerous sensitive sedge species such as capitate sedge, lesser bladderwort, slender sedge, tomentypnum moss, and Newberry's gentian.

The eastern portion of the expansion, in the area surrounding Surveyor Mountain, is home to high desert species such as bitterbrush and sagebrush, along with late successional dry coniferous forests containing lodgepole pine, dry currant, and western white pine.

The Horseshoe Ranch Wildlife Area in Siskiyou County, California, offers particularly significant ecological connectivity and integrity. The area contains a broad meadow ecosystem punctuated by Oregon white oak and western juniper woodlands alongside high desert species such as gray rabbitbrush and antelope bitterbrush. The area is also home to the scarlet fritillary, Greene's mariposa lily, Bellinger's meadowfoam, and California's only population of the endangered Gentner's fritillary.

The incredible biodiversity of plant communities in the expansion is mirrored by equally stunning animal diversity, supported by the wide variety of intact habitats and undisturbed corridors allowing animal migration and movement. Perhaps most notably, the Cascade-Siskiyou landscape, including the Upper Jenny Creek Watershed and the Southern Cascades, provides vitally important habitat connectivity for the threatened northern spotted owl. Other raptors, including the bald eagle, golden eagle, white-tailed kite, peregrine falcon, merlin, great gray owl, sharp-shinned hawk, Cooper's hawk, osprey, American kestrel, northern goshawk, flammulated owl, and prairie falcon, soar above the meadows, mountains, and forests as they seek their prey.

Ornithologists and birdwatchers alike come to the Cascade-Siskiyou landscape for the variety of birds found here. Tricolored blackbird, grasshopper sparrow, bufflehead, black swift, Lewis's woodpecker, purple martin, blue grouse, common nighthawk, dusky flycatcher, lazuli bunting, mountain quail, olive-sided flycatcher, Pacific-slope flycatcher, pileated woodpecker, ruffed grouse, rufous hummingbird, varied thrush, Vaux's swift, western meadowlark, western tanager, white-headed woodpecker, and Wilson's warbler are among the many species of terrestrial birds that make their homes in the expansion area. The Oregon vesper sparrow, among the most imperiled bird species in the region, has been documented in the meadows of the upper Jenny Creek Watershed.

Shore and marsh birds, including the Tule goose, yellow rail, snowy egret, harlequin duck, Franklin's gull, red-necked grebe, sandhill crane, pintail, common goldeneye, bufflehead, greater yellowlegs, and least sandpiper, also inhabit the expansion area's lakes, ponds, and streams.

Diverse species of mammals, including the black-tailed deer, elk, pygmy rabbit, American pika, and northern flying squirrel, depend upon the extraordinary ecosystems found in the area. Beavers and river otters inhabit the landscape's streams and rivers, while Horseshoe Ranch Wildlife Area has been identified as a critical big game winter range. Bat species including the pallid bat, Townsend's big-eared bat, and fringed myotis hunt insects beginning at dusk. The expansion area encompasses known habitat for endangered gray wolves, including a portion of the area of known activity for the Keno wolves. Other carnivores such as the Pacific fisher, cougar, American badger, black bear, coyote, and American marten can be seen and studied in the expansion area.

The landscape also contains many hydrologic features that capture the interest of visitors. Rivers and streams cascade through the mountains, and waterfalls such as Jenny Creek Falls provide aquatic habitat along with scenic beauty. The upper headwaters of the Jenny Creek watershed are vital to the ecological integrity of the watershed as a whole, creating clear cold water that provides essential habitat for fish living at the margin of their environmental tolerances. Fens and wetlands, along with riparian wetlands and wet montane meadows, can be found in the eastern portion of the expansion area. Lost Lake, in the northernmost portion of the expansion area, contains a large lake that serves as Western pond turtle habitat, along with another upstream waterfall.

The expansion area includes habitat for populations of the endemic Jenny Creek sucker and Jenny Creek redband trout, as well as habitat for the Klamath largescale sucker, the endangered shortnose sucker, and the endangered Lost River sucker. The watershed also contains potential habitat for the threatened coho salmon. Numerous species of aquatic plants grow in the area's streams, lakes, and ponds.

Amphibians such as black salamander, Pacific giant salamander, foothill yellow-legged frog, Cascade frog, the threatened Oregon spotted frog, and the endemic Siskiyou Mountains salamander thrive here thanks to the connectivity between terrestrial and aquatic habitats. Reptiles found in the expansion area include the western pond turtle, northern alligator lizard, desert striped whipsnake, and northern Pacific rattlesnake.

The Cascade-Siskiyou landscape's remarkable biodiversity includes the astounding diversity of invertebrates found in the expansion, including freshwater mollusks like the Oregon shoulderband, travelling sideband, modoc rim sideband, Klamath taildropper, chase sideband, Fall Creek pebblesnail, Keene Creek pebblesnail, and Siskiyou hesperian. The area has been identified by evolutionary biologists as a center of endemism and diversity for springsnails, and researchers have discovered four new species of mygalomorph spiders in the expansion. Pollinators such as Franklin's bumblebee, western bumblebee, and butterflies including Johnson's hairstreak, gray blue butterfly, mardon skipper, and Oregon branded skipper are critical to the ecosystems' success. Other insects found here include the Siskiyou short-horned grasshopper and numerous species of caddisfly.

The Cascade-Siskiyou landscape has long been a focus for scientific studies of ecology, evolutionary biology, wildlife biology, entomology, and botany. The expansion area provides an invaluable resource to scientists and conservationists wishing to research and sustain the functioning of the landscape's ecosystems into the future.

The expansion area includes numerous objects of scientific or historic interest. This enlargement of the Cascade-Siskiyou National Monument will maintain its diverse array of natural and scientific resources and preserve its cultural and historic legacy, ensuring that the scientific and historic values of this area remain for the benefit of all Americans.

WHEREAS, section 320301 of title 54, United States Code (known as the “Antiquities Act”), authorizes the President, in his discretion, to declare by public proclamation historic landmarks, historic and prehistoric structures, and other objects of historic or scientific interest that are situated upon the lands owned or controlled by the Federal Government to be national monuments, and to reserve as a part thereof parcels of land, the limits of which in all cases shall be confined to the smallest area compatible with the proper care and management of the objects to be protected;

WHEREAS, it is in the public interest to preserve the objects of scientific and historic interest on these public lands as an enlargement of the boundary of the Cascade-Siskiyou National Monument;

NOW, THEREFORE, I, BARACK OBAMA, President of the United States of America, by the authority vested in me by section 320301 of title 54, United States Code, hereby proclaim the objects identified above that are situated upon lands and interests in lands owned or controlled by the Federal Government to be part of the Cascade Siskiyou National Monument and, for the purpose of protecting those objects, reserve as part thereof all lands and interests in lands owned or controlled by the Federal Government within the boundaries described on the accompanying map, which is attached hereto and forms a part of this proclamation. These reserved Federal lands and interests in lands encompass approximately 48,000 acres. The boundaries described on the accompanying map are confined to the smallest area compatible with the proper care and management of the objects to be protected.

Nothing in this proclamation shall change the management of the areas protected under Proclamation 7318. Terms used in this proclamation shall have the same meaning as those defined in Proclamation 7318.

All Federal lands and interests in lands within the boundaries described on the accompanying map are hereby appropriated and withdrawn from all forms of entry, location, selection, sale, or other disposition under the public land laws, from location, entry, and patent under the mining laws, and from disposition under all laws relating to mineral and geothermal leasing, other than by exchange that furthers the protective purposes of the monument.

The enlargement of the boundary is subject to valid existing rights. If the Federal Government subsequently acquires any lands or interests in lands not owned or controlled by the Federal Government within the boundaries described on the accompanying map, such lands and interests in lands shall be reserved as a part of the monument, and objects identified above that are situated upon those lands and interests in lands shall be part of the monument, upon acquisition of ownership or control by the Federal Government.

The Secretary of the Interior (Secretary) shall manage the area being added to the monument through the Bureau of Land Management as a unit of the National Landscape Conservation System, under the same laws and regulations that apply to the rest of the monument, except that the Secretary may issue a travel management plan that authorizes snowmobile and non-motorized mechanized use off of roads in the area being added by this proclamation, so long as such use is consistent with the care and management of the objects identified above.

Nothing in this proclamation shall preclude low-level overflights of military aircraft, the designation of new units of special use airspace, or the use or establishment of military flight training routes over the lands reserved by this proclamation consistent with the care and management of the objects identified above.

Nothing in this proclamation shall be deemed to enlarge or diminish the jurisdiction of the State of Oregon or the State of California with respect to fish and wildlife management.

Nothing in this proclamation shall be deemed to revoke any existing withdrawal, reservation, or appropriation; however, the monument shall be the dominant reservation.

Warning is hereby given to all unauthorized persons not to appropriate, injure, destroy, or remove any feature of this monument and not to locate or settle upon any of the lands thereof.

IN WITNESS WHEREOF, I have hereunto set my hand this twelfth day of January, in the year of our Lord two thousand seventeen, and of the Independence of the United States of America the two hundred and forty-first.

Billing code 3295-F7-P

[FR Doc. 2017-01332

Filed 1-17-17; 11:15 a.m.]

Billing code 4310-10-C